SECURITIES AND EXCHANGE COMMISSION

[Release 34-44946A; File No. GSCC-2001-01]

Self-Regulatory Organizations; Government Securities Clearing Corporation; Order Granting Approval of a Proposed Rule Change Relating to the Redesign of Comparison Rules

October 25, 2001.

Correction

In FR Document No. 01-26727, beginning on page 53816, in the issue of Wednesday, October 24, 2001, the first sentence of the first paragraph in the middle column on page 53817 should read as follows: “In the current environment, most trades are compared within the GSCC system as a result of bilateral comparison, the exception being certain lock-in trades, such as members' Federal Reserve auction purchases.”

For the Commission, by the Division of Market Regulation, pursuant to delegated authority.¹⁷
¹ 17 CFR 200.30-3(a)(12).
Margaret H. McFarland,
Deputy Secretary.

[FR Doc. 01-27363 Filed 10-30-01; 8:45 am]

BILLING CODE 8010-01-M